NATIONAL SCIENCE FOUNDATION

Business and Operations Advisory Committee; Notice of Meeting

In accordance with the Federal Advisory Committee Act (Pub. L. 92-463, as amended), the National Science Foundation announces the following meeting:

Name: Business and Operations Advisory Committee (9556).

Date/Time: November 16, 2010; 1 p.m. to 5:30 p.m. (EST).

November 17, 2010; 8 a.m. to 12 p.m. (EST).

Place: Arlington Hilton, Gallery II Conference Room. Arlington, VA.

Type of Meeting: OPEN.

Contact Person: Patty Balanga, National Science Foundation, 4201 Wilson Boulevard, Arlington, VA 22230, (703) 292-8100.

Purpose of Meeting: To provide advice concerning issues related to the oversight, integrity, development and enhancement of NSF's business operations.

Agenda

November 16, 2010

Welcome/Introductions; OIRM/CIO/BFA Updates; Human Resources/Capital Topic; Committee Discussion: Prepare for Meeting with NSF Deputy Director; Discussion with Deputy Director; Closing Committee Discussion.

November 17, 2010

IT Policy Issues; Open Government; International Facilities Subcommittee; Committee Expectations/Closing Discussions.

Dated: October 20, 2010.
Susanne Bolton,
Committee Management Officer.

[FR Doc. 2010-26850 Filed 10-22-10; 8:45 am]

BILLING CODE 7555-01-P